DEPARTMENT OF COMMERCE

International Trade Administration

[A-475-059]

Pressure Sensitive Plastic Tape From Italy: Continuation of the Antidumping Duty Finding

AGENCY: Enforcement and Compliance, International Trade Administration, Department of Commerce.

SUMMARY: As a result of the determinations by the Department of Commerce (the Department) and the International Trade Commission (ITC) that revocation of the antidumping duty finding on pressure sensitive plastic tape (PSP tape) from Italy would likely lead to a continuation or recurrence of dumping and material injury to an industry in the United States, the Department is publishing a notice of continuation of the antidumping duty finding on PSP tape from Italy.

DATES: Effective Date: April 14, 2016.

FOR FURTHER INFORMATION CONTACT: Terre Keaton Stefanova, AD/CVD Operations, Office II, Enforcement and Compliance, International Trade Administration, U.S. Department of Commerce, 14th Street and Constitution Avenue NW., Washington, DC 20230; telephone: (202) 482-1280.

SUPPLEMENTARY INFORMATION:

Background

On March 2, 2015, the Department initiated ¹ and the ITC instituted ² five-year (“sunset”) reviews of the antidumping duty finding on PSP tape from Italy, pursuant to section 751(c) of the Tariff Act of 1930, as amended (the Act). As a result of its review, the Department determined that revocation of the antidumping duty finding on PSP tape from Italy would likely lead to a continuation or recurrence of dumping and notified the ITC of the magnitude of the margins of dumping likely to prevail were the finding revoked.³

¹ See Initiation of Five-Year (“Sunset”) Review, 80 FR 11164 (March 2, 2015).

² See Pressure Sensitive Plastic Tape From Italy; Institution of Five-Year Review, 80 FR 11224 (March 2, 2015).

³ See Pressure Sensitive Plastic Tape from Italy: Final Results of Expedited Fourth Sunset Review of the Antidumping Duty Finding, 80 FR 39054 (July 8, 2015) and accompanying Issues and Decision Memorandum for the Final Results of the Fourth Expedited Sunset Review of the Antidumping Duty Finding on Pressure Sensitive Plastic Tape from Italy (Issues and Decision Memorandum).

On April 8, 2016, the ITC published its determination, pursuant to sections 751(c) and 752(a) of the Act, that revocation of the antidumping duty finding order on PSP tape from Italy would likely lead to a continuation or recurrence of material injury to an industry in the United States within a reasonably foreseeable time.⁴

⁴ See Pressure Sensitive Plastic Tape From Italy; Determination, 81 FR 20673 (April 8, 2016).

Scope of the Finding

The products covered by the finding are shipments of PSP tape measuring over one and three-eighths inches in width and not exceeding four mils ⁵ in thickness. The above described PSP tape is classified under Harmonized Tariff Schedule of the United States (HTSUS) subheadings 3919.90.10.20 and 3919.90.50. The HTSUS subheadings are provided for convenience and for customs purposes. The written description remains dispositive.

⁵ We note that the Issues and Decision Memorandum incorrectly stated millimeters as the unit of measure. The correct unit of measure is mils.

Continuation of the Finding

As a result of the determinations by the Department and the ITC that revocation of the antidumping duty finding on PSP tape from Italy would likely lead to a continuation or recurrence of dumping, and of material injury to an industry in the United States, pursuant to section 751(d)(2) of the Act, the Department hereby orders the continuation of the antidumping duty finding on PSP tape from Italy. U.S. Customs and Border Protection will continue to collect antidumping duty cash deposits at the rates in effect at the time of entry for all imports of subject merchandise. The effective date of the continuation of the finding will be the date of publication in the Federal Register of this notice of continuation. Pursuant to section 751(c)(2) of the Act, the Department intends to initiate the next five-year review of the finding not later than 30 days prior to the fifth anniversary of the effective date of continuation.

Administrative Protective Order

This notice also serves as the only reminder to parties subject to administrative protective order (APO) of their responsibility concerning the return/destruction or conversion to judicial protective order of proprietary information disclosed under APO in accordance with 19 CFR 351.305(a)(3). Failure to comply is a violation of the APO which may be subject to sanctions.

This five-year (sunset) review and notice are in accordance with section 751(c) and published pursuant to 777(i) of the Act, and 19 CFR 351.218(f)(4).

Dated: April 8, 2016.
Ronald K. Lorentzen,
Acting Assistant Secretary for Enforcement and Compliance.

[FR Doc. 2016-08630 Filed 4-13-16; 8:45 am]

BILLING CODE 3510-DS-P